DEPARTMENT OF ENERGY

Federal Energy Regulatory Commission

[Docket Nos. ER99-2342-001, ER99-2342-003, ER01-931-004, ER01-931-006, ER01-931-007, ER01-930-004, ER01-930-006, ER01-930-007, ER96-1563-017, ER96-1563-019, ER96-1563-020, ER99-415-005, ER99-415-006, ER02-510-002, ER02-510-003, ER02-507-002, ER02-507-003, ER02-1000-003, ER02-1000-004, EL05-68-000]

Tampa Electric Company, Panda Gila River, L.P., Union Power Partners, L.P., TECO EnergySource, Inc., Commonwealth Chesapeake Company, L.L.C., TPS Dell, LLC, TPS McAdams, LLC, TECO-PANDA Generating Company, L.P., Tampa Electric Company, Panda Gilda, L.P., Union Power Partners, L.P., TECO EnergySource, Inc., Commonwealth Chesapeake Company, L.L.C., TPS Dell, LLC, TPS McAdams, LLC and TECO-PANDA Generating Company, L.P.; Notice of Institution of Proceeding and Refund Effective Date

Issued March 4, 2005.

On March 3, 2005, the Commission issued an order in the above-referenced dockets initiating a proceeding in Docket No. EL05-68-000 under section 206 of the Federal Power Act to determine whether TECO may continue to charge market-based rates.

The refund effective date in Docket No. EL05-68-000, established pursuant to section 206 of the Federal Power Act, will be 60 days following publication of this notice in the Federal Register.

Magalie R. Salas,
Secretary.

[FR Doc. E5-1044 Filed 3-11-05; 8:45 am]

BILLING CODE 6717-01-P